Proclamation 8579 of October 6, 2010

National Physician Assistants Week, 2010

By the President of the United States of America

A Proclamation

In communities across our Nation, physician assistants serve tirelessly everyday to care for Americans and fulfill a critical function in our health care system. They provide important medical attention and treatment to patients and their loved ones, and can be the principal care provider in rural or inner-city clinics, and other settings with provider shortages. During National Physician Assistants Week, we honor these dedicated medical professionals and their essential role in providing diagnostic, therapeutic, and preventive health care services to millions of American men, women, and children.

With compassion matched by professionalism, physician assistants work as part of a team to provide vital support to both patients in need and the doctors who balance the care of many individuals. Recognizing their essential function in our medical system, we allocated more than $30 million from the Prevention and Public Health Fund under the Affordable Care Act to expand the Physician Assistant Training Program, and to increase the number of physician assistants in primary care over the next 5 years. Primary care is the foundation of preventive health care, and we must support the training of hundreds of new physician assistants who can join the medical field and increase access to providers and services in underserved areas. Our Nation needs a strong primary care workforce and the continued dedication of physician assistants in our hospitals, clinics, and medical offices to address the crucial health issues of our time.

Countless American families have relied on the skill, concern, and commitment of physician assistants, in both joyous times and heart-wrenching circumstances. As we recognize their countless contributions this week, we also pay tribute to the kind and meticulous care provided by all of America’s medical professionals. Our Nation is stronger because of these invaluable workers, and their efforts safeguard a healthy future for all Americans.

NOW, THEREFORE, I, BARACK OBAMA, President of the United States of America, by virtue of the authority vested in me by the Constitution and the laws of the United States, do hereby proclaim October 6 through October 12, 2010, as National Physician Assistants Week. I call upon all Americans to observe this week with appropriate ceremonies, activities, and programs that honor and foster appreciation for our physician assistants and all medical professionals.

IN WITNESS WHEREOF, I have hereunto set my hand this sixth day of October, in the year of our Lord two thousand ten, and of the Independence of the United States of America the two hundred and thirty-fifth.

[FR Doc. 2010-25706

Filed 10-8-10; 8:45 am]

Billing code 3195-W1-P